DEPARTMENT OF TRANSPORTATION

Federal Aviation Administration

Notice of Intent To Rule on Application 02-04-C-00-TLH To Impose and Use the Revenue From a Passenger Facility Charge (PFC) at Tallahassee Regional Airport, Tallahassee, FL

AGENCY: Federal Aviation Administration (FAA), DOT.

ACTION: Notice of Intent to Rule on Application.

SUMMARY: These corrections revise information from the previously published notice. In the notice appearing on pages 18671 and 18672 in the issue of Tuesday, April 16, 2002 (Volume 67, Number 73) under SUPPLEMENTARY INFORMATION in the first column, in the 15th line, the date the FAA will approve or disapprove the application, in whole or in part, no later than should read,“ August 15, 2002”. Also, under SUPPLEMENTARY INFORMATION, in the first column, in the 21st line, the Proposed charge expiration date should read, “October 1, 2007”. Finally, under SUPPLEMENTARY INFORMATION, in the first column, in the 24th line, the Total estimated PFC revenue should read, “$10,072,057”.

DATES: Comments must be received on or before July 24, 2002.

ADDRESSES: Comments on this application may be mailed or delivered in triplicate to the FAA at the following address: Orlando Airports District Office, Suite 400, 5950 Hazeltine National Drive, Orlando, Florida 32822.

In addition, one copy of any comments submitted to the FAA must be mailed or delivered to Mr. Kenneth Austin, Airport Director of the City of Tallahassee at the following address: Tallahassee Regional Airport, 3300 Capital Circle, SW., Suite 1, Tallahassee, Florida 32310.

Air carriers and foreign air carriers may submit copies of written comments previously provided to the City of Tallahassee under section 158.23 of Part 158.

FOR FURTHER INFORMATION CONTACT: Mr. Bill Farris, Program Manager, Orlando Airports District Office, Suite 400, 5950 Hazeltine National Drive, Orlando Florida, 32822, (407) 812-6331, extension 25. The application may be reviewed in person at this same location.

SUPPLEMENTARY INFORMATION: On May 16, 2002, the City of Tallahassee submitted a revised application to correct a mathematical discrepancy in total estimated PFC revenue and to change the proposed charge expiration date in the application the FAA found substantially complete on April 2, 2002. On June 11, 2002, the City of Tallahassee submitted a letter requesting that the no later than date of July 16, 2002 for the FAA to approve or disapprove the application, in whole or part, be extended to August 15, 2002.

Issued in Orlando, Florida, on June 12, 2002.
W. Dean Stringer,
Manager, Airports District Office.

[FR Doc. 02-15801 Filed 6-21-02; 8:45 am]

BILLING CODE 4910-13-M